SMALL BUSINESS ADMINISTRATION

National Advisory Council; Public Meeting

Pursuant to the Federal Advisory Committee Act, 5 U.S.C. APP. 2, section 10(a)(2), notice is hereby given that the U.S. Small Business Administration (SBA) National Advisory Council (NAC) will hold a public meeting on Thursday, January 31, 2008 at 2 p.m. (eastern). The purpose of the meeting is to discuss and outline FY 2008 projects for the NAC.

The meeting will be open to the public. Anyone wishing to participate must contact Mina Wales or Adrienne Abney-Cole by phone or e-mail in order to be added to the agenda. Mina Wales, NAC Designated Federal Officer, 202-205-7180, Mina.Wales@sba.gov or Adrienne Abney-Cole, NAC Committee Management Specialist, 202-205-6742, Adrienne.Abney-Cole@sba.gov.

The meeting will take place using an audio conferencing system. To participate, please call our toll free conferencing service at 1-866-740-1260 and enter access code 3711001 at the prompt.

For more information about the National Advisory Council, please visit our Web site at http://www.sba.gov/nac/index.html.

Cherylyn Lebon,
Committee Management Officer.

[FR Doc. E8-1768 Filed 1-30-08; 8:45 am]

BILLING CODE 8025-01-P